DEPARTMENT OF THE INTERIOR

National Park Service

Glacier Bay National Park, Alaska; Environmental Impact Statement on Vessel Quotas and Operating Requirements for Glacier Bay National Park and Preserve

AGENCY: National Park Service, Interior.

ACTION: Extension of the public scoping period.

SUMMARY: The National Park Service (NPS) announces that the public scoping period for the Environmental Impact Statement on Vessel Quotas and Operating Requirements for Glacier Bay National Park and Preserve, published in the Federal Register on February 22, 2002 (67 FR 8313), has been extended through June 7, 2002. The original scoping period was through April 22, 2002.

Public scoping meetings will be conducted during the period May 20-31, 2002 in Anchorage, Juneau, Gustavus, Hoonah, Elfin Cove, and Pelican, Alaska and in Seattle, Washington. Specific dates, times, and locations of scoping meetings will be announced in local area newspapers and by other media.

DATES: Comments concerning the scope of this project will be accepted through June 7, 2002.

ADDRESSES: Comments should be mailed to the address provided below.

FOR FURTHER INFORMATION CONTACT: Nancy Swanton, Park Planner, National Park Service, Alaska Support Office, 2525 Gambell Street, Anchorage, Alaska 99503. Telephone (907) 257-2651, Fax (907) 257-2517.

Dated: April 25, 2002.
Fran P. Mainella,
Director, National Park Service.

[FR Doc. 02-11134 Filed 5-3-02; 8:45 am]

BILLING CODE 4310-70-P